NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (66).

Date and Time: November 2, 2000, 8:30 a.m.-6 p.m.; November 3, 2000, 8:30 a.m.-3 p.m.

Place: 4201 Wilson Boulevard, Room 1235 Arlington, VA 22230.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Current status of Directorate; Review by MPSAC of Directorate GPRA performance; Science Presentations.

Summary Minutes: May be obtained from the contact person listed above.

Dated: September 27, 2000.
Karen J. York,
Committee Management Officer.

[FR Doc. 00-25214 Filed 9-29-00; 8:45 am]

BILLING CODE 7555-01-M